ENVIRONMENTAL PROTECTION AGENCY

[FRL-9564-01-R6]

Clean Air Act Operating Permit Program; Petitions for Objection to State Operating Permit for ETC Texas Pipeline, Ltd, Waha Gas Plant, Pecos County, Texas

AGENCY: Environmental Protection Agency (EPA).

ACTION: Notice of final Order on Petition for objection to Clean Air Act title V operating permit.

SUMMARY: The Environmental Protection Agency (EPA) Administrator signed an Order dated January 28, 2022, granting a Petition dated March 10, 2020 from the Environmental Integrity Project, Sierra Club, Environment Texas, and Texas Campaign for the Environment (the Petitioners). The Petition requested that the EPA object to a Clean Air Act (CAA) title V operating permit issued by the Texas Commission on Environmental Quality (TCEQ) to ETC Texas Pipeline, Ltd (ETC) for its Waha Gas Plant located in Pecos County, Texas.

ADDRESSES: The EPA requests that you contact the individual listed in the FOR FURTHER INFORMATION CONTACT section to view copies of the final Order, the Petition, and other supporting information. Out of an abundance of caution for members of the public and our staff, the EPA Region 6 office is currently closed to the public to reduce the risk of transmitting COVID-19. Please call or email the contact listed below if you need alternative access to the final Order and Petition, which are available electronically at: https://www.epa.gov/title-v-operating-permits/title-v-petition-database.

FOR FURTHER INFORMATION CONTACT: Aimee Wilson, EPA Region 6 Office, Air Permits Section, (214) 665-7596, wilson.aimee@epa.gov.

SUPPLEMENTARY INFORMATION: The CAA affords EPA a 45-day period to review and object to, as appropriate, operating permits proposed by state permitting authorities under title V of the CAA. Section 505(b)(2) of the CAA authorizes any person to petition the EPA Administrator to object to a title V operating permit within 60 days after the expiration of the EPA's 45-day review period if the EPA has not objected on its own initiative. Petitions must be based only on objections to the permit that were raised with reasonable specificity during the public comment period provided by the state, unless the petitioner demonstrates that it was impracticable to raise these issues during the comment period or unless the grounds for the issue arose after this period.

The EPA received the Petition from the Petitioners dated March 10, 2020, requesting that the EPA object to the issuance of operating permit no. O2546, issued by TCEQ to the Waha Gas Plant in Pecos County, Texas. The Petition claims the proposed permit must include a schedule addressing noncompliance at the Waha Gas Plant, fails to identify any emission unit(s) authorized by one Permit by Rule (PBR) and three Standard Exemptions incorporated as applicable requirements, fails to establish monitoring, testing, and recordkeeping provisions that assure compliance with PBR and Standard Exemption requirements, fails to include specific enforceable terms and conditions for applicable NSPS requirements, and the proposed permit's incorporation of ETC's PBR registrations is deficient.

On January 28, 2022, the EPA Administrator issued an Order granting the Petition. The Order explains the basis for EPA's decision.

Dated: February 9, 2022.
David Garcia,
Director, Air and Radiation Division, Region 6.

[FR Doc. 2022-03265 Filed 2-15-22; 8:45 am]

BILLING CODE 6560-50-P